DEPARTMENT OF DEFENSE

Office of the Secretary

Submission for OMB Review; Comment Request

ACTION: Notice.

The Department of Defense will submit to OMB for emergency processing, the following proposal for collection of information under the provisions of the Paperwork Reduction Act (44 U.S.C. Chapter 35).

Title and OMB Number: Foreign Sourcing for Defense Application; OMB Number 0704—[To Be Determined].

Type of Request: New Collection; Emergency processing requested with a shortened public comment period ending February 7, 2001. An approval date by February 15, 2001 has been requested.

Number of Respondents: 3,205.

Responses Per Respondent: 1.

Annual Responses: 3,205.

Average Burden Per Response: 5 hours.

Annual Burden Hours: 16,025.

Needs and Uses: The information is required for the Department of Defense (DoD) to evaluate, for certain defense programs, the: (1) Extent of foreign sourcing within the defense products; (2) impact such foreign sourcing has on military readiness and the related domestic industrial infrastructure; and, (3) extent to which DoD or contractor policies, procedures, practices, or actions encourage or discourage consideration of foreign sources for defense products. The evaluation is required by section 831 of the National Defense Authorization Act for Fiscal Year 2001. Section 831 requires the Secretary of Defense to conduct a study analyzing the impact that foreign sources have on six specific defense systems to include the AH-64D Apache helicopter, F/A-18E/F aircraft, M1A2 Abrams tank, AIM 120 AMRAAM missile, Patriot missile ground station, and Hellfire missile. To ensure it can address emerging foreign sourcing issues, DoD will also evaluate foreign sourcing on the Joint Direct Attack Munition and the Advanced Amphibious Assault Vehicle. Section 831 requires that the information to be analyzed shall be collected from prime contractors and first and second tier subcontractors.

Affected Public: Business or Other For-Profit.

Frequency: One-Time.

Respondent's Obligation: Voluntary.

OMB Desk Officer: Mr. Lew Oleinick. Written comments and recommendations on the proposed information collection should be sent to Mr. Oleinick at the Office of Management and Budget, Desk Officer for Acquisitions (DoD), Room 10236, New Executive Office Building, Washington, DC 20503.

DOD Clearance Officer: Mr. Robert Cushing. Written requests for copies of the information collection proposal should be sent to Mr. Cushing, WHS/DIOR, 1215 Jefferson Davis Highway, Suite 1204, Arlington, VA 22202-4302, or by fax at (703) 604-6270.

Dated: January 8, 2001.
Patricia L. Toppings,
Alternate OSD Federal Register Liaison Officer, Department of Defense.

[FR Doc. 01-1318 Filed 1-16-01; 8:45 am]

BILLING CODE 5001-10-M